NATIONAL SCIENCE FOUNDATION

Agency Information Collection Activities: Comment Request; National Training, Education, and Workforce Survey

AGENCY: National Center for Science and Engineering Statistics, National Science Foundation.

ACTION: Notice.

SUMMARY: The National Science Foundation (NSF) is announcing plans to renew this collection. In accordance with the requirements of the Paperwork Reduction Act of 1995, we are providing an opportunity for public comment on this action. After obtaining and considering public comment, NSF will prepare the submission requesting Office of Management and Budget (OMB) clearance of this collection for no longer than 3 years.

DATES: Written comments on this notice must be received by November 21, 2023 to be assured consideration. Comments received after that date will be considered to the extent practicable. Send comments to the address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: The 2024 National Training, Education, and Workforce Survey.

OMB Control Number: 3145-0264.

Expiration Date: November 30, 2024.

Type of Request: Intent to seek approval to extend an information collection for three years.

Abstract: The CHIPS Act of 2022, Public Law 117-167, § 10314, requires the Director of NSF to provide a portfolio analysis of NSF's investments in the skilled technical workforce. With the widespread integration of science and technology in society, including its central role in the economy, work has changed for individuals at all education levels, making skilled technical workers increasingly important to U.S. economic competitiveness, national security, and scientific progress. American workers who use science, technology, engineering, and mathematics (STEM) knowledge and skills in their jobs but do not require a bachelor's degree or above comprise the skilled technical workforce (STW). While some limited federal data exist to quantify the number of skilled technical workers, the National Training, Education, and Workforce Survey (NTEWS) allows for a longitudinal analysis to measure the pathways of how individuals enter, maintain relevance, or seek advancement in STW occupations.

The NTEWS continues to be a voluntary response data collection sponsored by the National Center for Science and Engineering Statistics (NCSES) within the National Science Foundation and cosponsored by the National Center for Education Statistics (NCES) within the U.S. Department of Education. The NTEWS serves the purpose of measuring and understanding two research concepts that are of national interest: (1) the education, training, and career pathways of skilled technical workers, and (2) the prevalence and interplay of education (postsecondary degrees and certificates), work credentials (certifications and licenses), and work experience programs among American workers.

The NTEWS will collect information on the following topics to examine the relationship between credentials and employment outcomes:

• Credential types

• Education characteristics

• Initial work training

• Employment characteristics

• Demographic characteristics

Given these areas of mutual interest for NCSES and NCES, the NTEWS will reduce public burden by fielding one cosponsored survey that meets the information needs of both federal agencies.

The 2024 NTEWS data collection effort will be the second cycle for a planned, biennial, rotating-panel design. Respondents can complete the survey in English or Spanish by web, paper, or computer-assisted telephone interviewing. The sponsoring agencies plan to include questions about sexual orientation and gender identity (SOGI) as experimental modules to examine the response rates and data quality for possible future inclusion of SOGI questions in the NTEWS. The agencies will analyze the 2024 NTEWS data to inform and resolve any statistical, methodological, operational, and content issues before the subsequent NTEWS collection cycle in the planned, biennial survey cycle design.

The U.S. Census Bureau, the agency responsible for the American Community Survey (ACS), will serve as the Federal data collection contractor for NCSES and NCES. The 2024 NTEWS sample will be selected from the 2022 ACS and the 2022 NTEWS, providing the needed coverage of the STW working in the United States. The NTEWS collection and data will be protected under the applicable Census Bureau confidentiality statutes.

Use of the information: NCSES and NCES intend to publish national estimates from the 2024 NTEWS and use the results to inform the next survey cycle. NCSES anticipates that the NTEWS data will be used for the two congressionally mandated biennial reports authored by NCSES: Women, Minorities, and Persons with Disabilities in Science and Engineering (https://www.nsf.gov/statistics/women/) and Science and Engineering Indicators (https://ncses.nsf.gov/indicators). NCES plans to release statistical reports and web tables on the status of educational and professional credentials in the United States. In addition, a public release file of collected data, designed to protect respondent confidentiality, will be made available to policymakers, researchers, and the public on the internet.

Established within NSF by the America COMPETES Reauthorization Act of 2010 § 505, codified in the NSF Act of 1950, as amended, NCSES serves as a central Federal clearinghouse for the collection, interpretation, analysis, and dissemination of objective data on science, engineering, technology, and research and development for use by practitioners, researchers, policymakers, and the public. NCSES also provides data to support the Science and Engineering Equal Opportunities Act of 1980, which directs NSF to provide to Congress and the Executive Branch an “accounting and comparison, by sex, race, and ethnic group and by discipline, of the participation of women and men in scientific and engineering positions.”

NCSES has historically met these legislative mandates through its surveys and biennial publications measuring the education, employment, and demographic characteristics of the nation's college-educated scientists and engineers. However, an emerging research and policy interest in the STW creates a need for continued collection of the relatively new NTEWS data to expand and supplement NCSES's efforts on the college-educated science and engineering workforce.

Expected Respondents: Eligible individuals are ages 16 through 75, not enrolled in high school or institutionalized, and living in the U.S. or Puerto Rico. The NTEWS sample design will meet the needs of the sponsoring agencies by providing coverage of the workforce-eligible adult population and including an oversample of adults in skilled technical occupations. A statistical sample of approximately 120,000 individuals (17,000 returning sample members from the 2022 NTEWS and 103,000 new sample members from the 2022 ACS) will be contacted in 2024 for the NTEWS production. Another 3,000 individuals known to have a certificate will form a seeded sample that will not be included in the production of NTEWS official statistics. Information from the seeded sample will be used for agencies' research purposes to evaluate questions on the NTEWS.

Estimate of Burden: The expected response rate is 62.5 percent, or 75,000 completed cases, a calculation that is based on the 2022 NTEWS. The time to complete the survey may vary depending on an individual's circumstances and response mode (web, paper, or telephone). NCSES estimates an average completion time of 15 minutes. NCSES estimates that the average annual burden for the initial NTEWS over the course of the three-year OMB clearance period will be no more than 6,250 hours [75,000 completed cases × 15 minutes) / 3 years].

Comments: Comments are invited on (a) aspects of the data collection effort (including, but not limited to, the following: the availability of administrative and supplemental sources of data on the skilled technical workforce, survey content, contact strategy, and statistical methods); (b) whether the proposed collection of information is necessary for the proper performance of the functions of NCSES, including whether the information shall have practical utility; (c) the accuracy of the NCSES's estimate of the burden of the proposed collection of information; (d) ways to enhance the quality, use, and clarity of the information on respondents, including through the use of automated collection techniques or other forms of information technology; and (e) ways to minimize the burden of the collection of information on those who are to respond, including through the use of appropriate automated, electronic, mechanical, or other technological collection techniques or other forms of information technology.

Dated: September 18, 2023.
Suzanne H. Plimpton,
Reports Clearance Officer, National Science Foundation.

[FR Doc. 2023-20515 Filed 9-21-23; 8:45 am]

BILLING CODE 7555-01-P